DEPARTMENT OF INTERIOR

National Park Service

[NPS-SERO-BISO-NPS0027182; PPSESEROC3, PPMPSAS1Y.YP0000]

Determination of Eligibility for Consideration as Wilderness Areas, Big South Fork National River and Recreation Area

AGENCY: National Park Service, Interior.

ACTION: Notice of determination of wilderness eligibility for lands in Big South Fork National River and Recreation Area.

SUMMARY: Pursuant to the Wilderness Act of 1964, and in accordance with National Park Service (NPS) Management Policies (2006), Section 6.2.1, the NPS has completed a Wilderness Eligibility Assessment to determine if lands within Big South Fork National River and Recreation Area (Big South Fork NRRA) meet criteria indicating eligibility for preservation as wilderness. The lands subject to the assessment were those identified in the park's General Management Plan as being within the Natural Environment Recreation Zone and the Sensitive Resource Protection Zone. All other zones in the plan are development zones. Based on the assessment, the NPS has concluded that the assessed lands: (1) Are not predominantly roadless and undeveloped; (2) are not greater than 5,000 acres in size or of sufficient size as to make practicable their preservation and use in an unimpaired condition; and (3) do not meet the wilderness character criteria listed in the Wilderness Act and NPS Management Policies (2006). As a result of these findings, the NPS has determined that lands within Big South Fork NRRA do not warrant further study for possible designation as wilderness at this time. An updated eligibility assessment may be warranted in the future as lands in the park recover from past human disturbance.

ADDRESSES: A map of the lands assessed is on file at Big South Fork National River and Recreation Area Headquarters, 4564 Leatherwood Road, Oneida, Tennessee 37841.

FOR FURTHER INFORMATION CONTACT: Superintendent Niki Stephanie Nicholas, Big South Fork National River and Recreation Area, by phone at 423-569-9778, via email at BISO_Superintendent@nps.gov, or by mail at Big South Fork National River and Recreation Area, 4564 Leatherwood Road, Oneida, Tennessee 37841.

SUPPLEMENTARY INFORMATION: Big South Fork NRRA comprises 125,310 acres on the Cumberland Plateau of eastern Tennessee and southern Kentucky. Of this total, 116,309 acres are in Federal ownership. Big South Fork NRRA has been affected by past extractive activities, including farming, logging, sub-surface coal mining, and drilling for oil and gas.

Staff of the Big South Fork NRRA reviewed the Primary Eligibility Criteria found in Section 6.2.1.1 of NPS Management Policies to evaluate the park's wilderness eligibility. The eligibility assessment initially identified seven areas in the park that are undeveloped, appear to have been affected primarily by the forces of nature, and offer opportunities for solitude and an unconfined type of recreation. These areas range in size from 279.2 acres to 3,655.7 acres. None is over 5,000 acres in size, or, given the nature of adjacent recreational and management activities, of sufficient size to make practicable its preservation and use as wilderness in an unimpaired condition. Furthermore, none of these areas is untrammeled. Due to their small size, each must be actively managed to control the effects of fire, deal with invasive species, and ameliorate the impacts of prior human disturbance. Accordingly, the NPS has determined that none of the acreage administered by the NPS at Big South Fork NRRA is eligible for designation as wilderness.

A public notice announcing the NPS's intention to conduct this eligibility assessment was placed in the Federal Register on December 20, 2016. A previous press release had been issued to local media on March 6, 2007 informing the public of the assessment process. The NPS received no comments on either the press release or the subsequent notice.

Given that no lands at Big South Fork NRRA currently eligible for wilderness consideration, no wilderness study will be undertaken pursuant to Management Policies Section 2.2.2 to develop a recommendation to Congress for wilderness designation.

Dated: August 5, 2019.
Robert A. Vogel,
Regional Director.

[FR Doc. 2019-20559 Filed 9-20-19; 8:45 am]

BILLING CODE 4312-52-P